TENNESSEE VALLEY AUTHORITY

Sunshine Act Meetings

TIME AND DATE: 9:00 a.m. ET on August 24, 2023.

PLACE: Chattanooga Convention Center, 1 Carter Drive, Chattanooga, Tennessee.

STATUS: Open.

MATTERS TO BE CONSIDERED:

Meeting No. 23-03

The TVA Board of Directors will hold a public meeting on August 24, 2023, at the Chattanooga Convention Center, 1 Carter Drive, Chattanooga, Tennessee.

The meeting will be called to order at 9:00 a.m. ET to consider the agenda items listed below. TVA management will answer questions from the news media following the Board meeting.

On August 23, at the Chattanooga Convention Center, the public may comment on any agenda item or subject at a board-hosted public listening session which begins at 2:00 p.m. ET and will last until 4:00 p.m. Preregistration is required to address the Board.

Agenda

1. Chair's Welcome

2. Report of the Operations and Nuclear Oversight Committee

A. Recission of surplus regarding the Bellefonte site

3. Report of the Audit, Finance, Risk, and Cybersecurity Committee

A. Rate adjustment

B. FY24 Financial plan and budget

C. FY24 External auditor selection

4. Report of the People and Governance Committee

5. Report of the External Stakeholders and Regulation Committee

6. Report from President and CEO

CONTACT PERSON FOR MORE INFORMATION: For more information: Please call Ashton Davies, TVA Media Relations at (865) 632-6000, Knoxville, Tennessee. Anyone who wishes to comment on any of the agenda in writing may send their comments to: TVA Board of Directors, Board Agenda Comments, 400 West Summit Hill Drive, Knoxville, Tennessee 37902.

Dated: August 17, 2023.
Edward C. Meade,
Agency Liaison.

[FR Doc. 2023-18179 Filed 8-21-23; 11:15 am]

BILLING CODE 8120-08-P